PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Disclosure Document Program.

Form Number(s): PTO/SB/95.

Agency Approval Number: 0651-0030.

Type of Request: Extension of a currently approved collection.

Burden: 4,050 hours annually.

Number of Respondents: 20,250 responses per year.

Avg. Hours Per Response: The USPTO estimates that it will take 12 minutes to submit a Disclosure Document Deposit Request. This includes time to gather the necessary information, create the documents, and submit the completed request.

Needs and Uses: An applicant files a disclosure document to establish a date of conception for an invention. When the USPTO receives a request for disclosure document deposit, an identifying number is assigned and stamped on the document. The document is then filed. The information is used by the USPTO to establish the date of conception for an invention. The USPTO keeps a disclosure document for only two years, unless it is referred to in a related provisional or nonprovisional patent application filed within the two-year period. The disclosure document is not a patent application, and the date of its receipt in the USPTO will not become the effective filing date of any patent application subsequently filed.

Affected Public: Individuals or households; business or other for-profit; not-for-profit institutions; and the Federal Government.

Frequency: On occasion.

Respondent's Obligation: Required to obtain or retain benefits.

OMB Desk Officer: David Rostker, (202) 395-3897.

Copies of the above information collection proposal can be obtained by calling or writing Susan K. Brown, Records Officer, Office of Data Management, Data Administration Division, (703) 308-7400, USPTO, Suite 310, 2231 Crystal Drive, Washington, DC 20231, or by e-mail at susan.brown@uspto.gov.

Written comments and recommendations for the proposed information collection should be sent on or before February 14, 2002 to David Rostker, OMB Desk Officer, Room 10202, New Executive Office Building, Washington, DC 20503.

Dated: January 2, 2002.
Susan K. Brown,
Records Officer, USPTO, Office of Data Management, Data Administration Division.

[FR Doc. 02-951 Filed 1-14-02; 8:45 am]

BILLING CODE 3510-16-P